DEPARTMENT OF ENERGY

Federal Energy Regulatory Commission

Combined Notice of Filings

Take notice that the Commission has received the following Natural Gas Pipeline Rate and Refund Report filings:

Docket Numbers: RP11-1917-000.

Applicants: Algonquin Gas Transmission, LLC.

Description: Algonquin Gas Transmission, LLC submits tariff filing per 154.204: J-2 Lateral Description to be effective 5/1/2011.

Filed Date: 03/29/2011.

Accession Number: 20110329-5140.

Comment Date: 5 p.m. Eastern Time on Monday, April 11, 2011.

Docket Numbers: RP11-1918-000.

Applicants: Pine Needle LNG Company, LLC.

Description: Pine Needle LNG Company, LLC submits tariff filing per 154.403(d)(2): PN 2011 Electric Power and Fuel Tracker Filing to be effective 5/1/2011.

Filed Date: 03/30/2011.

Accession Number: 20110330-5035.

Comment Date: 5 p.m. Eastern Time on Monday, April 11, 2011.

Docket Numbers: RP11-1919-000.

Applicants: Williston Basin Interstate Pipeline Company.

Description: Williston Basin Interstate Pipeline Company submits tariff filing per 154.204: Penalty Revenue Credits Timeline to be effective 4/29/2011.

Filed Date: 03/30/2011.

Accession Number: 20110330-5055.

Comment Date: 5 p.m. Eastern Time on Monday, April 11, 2011.

Docket Numbers: RP11-1920-000.

Applicants: Gulf Crossing Pipeline Company LLC.

Description: Gulf Crossing Pipeline Company LLC submits tariff filing per 154.204: Enterprise K12 Negotiated Rate Agreement Amendment Filing to be effective 4/1/2011.

Filed Date: 03/30/2011.

Accession Number: 20110330-5106.

Comment Date: 5 p.m. Eastern Time on Monday, April 11, 2011.

Docket Numbers: RP11-1921-000.

Applicants: Vector Pipeline L.P.

Description: Annual Fuel Use Report of Vector Pipeline L.P.

Filed Date: 03/30/2011.

Accession Number: 20110330-5116.

Comment Date: 5 p.m. Eastern Time on Monday, April 11, 2011.

Docket Numbers: RP11-1922-000.

Applicants: Transcontinental Gas Pipe Line Company, LLC.

Description: Transcontinental Gas Pipe Line Company, LLC submits tariff filing per 154.204: Non-Conforming Agreement—Patriots Energy Group to be effective 4/1/2011.

Filed Date: 03/30/2011.

Accession Number: 20110330-5189.

Comment Date: 5 p.m. Eastern Time on Monday, April 11, 2011.

Docket Numbers: RP11-1923-000.

Applicants: Transcontinental Gas Pipe Line Company, LLC.

Description: Transcontinental Gas Pipe Line Company, LLC submits tariff filing per 154.204: Negotiated Rate Agreement—Patriots Energy Group to be effective 4/1/2011.

Filed Date: 03/30/2011.

Accession Number: 20110330-5202.

Comment Date: 5 p.m. Eastern Time on Monday, April 11, 2011.

Docket Numbers: RP11-1924-000.

Applicants: ANR Pipeline Company.

Description: ANR Pipeline Company submits tariff filing per 154.403(d)(2): DTCA 2011 to be effective 5/1/2011.

Filed Date: 03/31/2011.

Accession Number: 20110331-5048.

Comment Date: 5 p.m. Eastern Time on Tuesday, April 12, 2011.

Docket Numbers: RP11-1925-000.

Applicants: Northern Border Pipeline Company.

Description: Northern Border Pipeline Company submits tariff filing per 154.403(d)(2): CSU Fuel Filing to be effective 5/1/2011.

Filed Date: 03/31/2011.

Accession Number: 20110331-5049.

Comment Date: 5 p.m. Eastern Time on Tuesday, April 12, 2011.

Docket Numbers: RP11-1926-000.

Applicants: Transcontinental Gas Pipe Line Company, LLC.

Description: Transcontinental Gas Pipe Line Company, LLC submits tariff filing per 154.203: 85 North Expansion Project—Phase 2 Rate Filing to be effective 5/1/2011.

Filed Date: 03/31/2011.

Accession Number: 20110331-5050.

Comment Date: 5 p.m. Eastern Time on Tuesday, April 12, 2011.

Docket Numbers: RP11-1927-000.

Applicants: National Fuel Gas Supply Corporation.

Description: National Fuel Gas Supply Corporation submits tariff filing per 154.204: 2011 April IG Filing to be effective 4/1/2011.

Filed Date: 03/31/2011.

Accession Number: 20110331-5053.

Comment Date: 5 p.m. Eastern Time on Tuesday, April 12, 2011.

Docket Numbers: RP11-1928-000.

Applicants: CenterPoint Energy Gas Transmission Company, LLC.

Description: CenterPoint Energy Gas Transmission Company, LLC submits tariff filing per 154.403: CEGT LLC—Revenue Crediting, to be effective 5/1/2011.

Filed Date: 03/31/2011.

Accession Number: 20110331-5056.

Comment Date: 5 p.m. Eastern Time on Tuesday, April 12, 2011.

Docket Numbers: RP11-1929-000.

Applicants: CenterPoint Energy Gas Transmission Company.

Description: CenterPoint Energy Gas Transmission Company Amended 2010 Penalty Crediting Report.

Filed Date: 03/31/2011.

Accession Number: 20110331-5068.

Comment Date: 5 p.m. Eastern Time on Tuesday, April 12, 2011.

Docket Numbers: RP11-1930-000.

Applicants: Natural Gas Pipeline Company of America.

Description: Penalty Revenue Crediting Report of Natural Gas Pipeline Company of America.

Filed Date: 03/31/2011.

Accession Number: 20110331-5070.

Comment Date: 5 p.m. Eastern Time on Tuesday, April 12, 2011.

Docket Numbers: RP11-1931-000.

Applicants: Texas Eastern Transmission, LP.

Description: Texas Eastern Transmission, LP submits tariff filing per 154.204: TETLP Cleanup Filing March 2011 to be effective 5/1/2011.

Filed Date: 03/31/2011.

Accession Number: 20110331-5073.

Comment Date: 5 p.m. Eastern Time on Tuesday, April 12, 2011.

Docket Numbers: RP11-1932-000.

Applicants: Panhandle Eastern Pipe Line Company, LP.

Description: Panhandle Eastern Pipe Line Company, LP submits tariff filing per 154.203: Annual Flow-Through of Cash-Out Revenues to be effective N/A.

Filed Date: 03/31/2011.

Accession Number: 20110331-5074.

Comment Date: 5 p.m. Eastern Time on Tuesday, April 12, 2011.

Docket Numbers: RP11-1933-000.

Applicants: Panhandle Eastern Pipe Line Company, LP.

Description: Panhandle Eastern Pipe Line Company, LP submits tariff filing per 154.203: Annual Report of Flow- Through of Penalty Revenues to be effective N/A.

Filed Date: 03/31/2011.

Accession Number: 20110331-5075.

Comment Date: 5 p.m. Eastern Time on Tuesday, April 12, 2011.

Docket Numbers: RP11-1934-000.

Applicants: Ozark Gas Transmission, L.L.C.

Description: Ozark Gas Transmission, L.L.C. submits tariff filing per 154.204: Negotiated Rate—Southwestern—contract 820131 to be effective 4/1/2011.

Filed Date: 03/31/2011.

Accession Number: 20110331-5076.

Comment Date: 5 p.m. Eastern Time on Tuesday, April 12, 2011.

Docket Numbers: RP11-1935-000.

Applicants: Bison Pipeline LLC.

Description: Bison Pipeline LLC submits tariff filing per 154.601: Amendments to Negotiated Rate Agreements to be effective 4/1/2011.

Filed Date: 03/31/2011.

Accession Number: 20110331-5096.

Comment Date: 5 p.m. Eastern Time on Tuesday, April 12, 2011.

Docket Numbers: RP11-1936-000.

Applicants: Millennium Pipeline Company, LLC.

Description: Millennium Pipeline Company, LLC submits tariff filing per 154.204: RAM 2011 to be effective 5/1/2011.

Filed Date: 03/31/2011.

Accession Number: 20110331-5124.

Comment Date: 5 p.m. Eastern Time on Tuesday, April 12, 2011.

Docket Numbers: RP11-1937-000.

Applicants: East Tennessee Natural Gas, LLC.

Description: East Tennessee Natural Gas, LLC's 2009-2010 Cashout Report.

Filed Date: 03/31/2011.

Accession Number: 20110331-5127.

Comment Date: 5 p.m. Eastern Time on Tuesday, April 12, 2011.

Docket Numbers: RP11-1938-000.

Applicants: Egan Hub Storage, LLC.

Description: Egan Hub Storage, LLC submits tariff filing per 154.204: Egan Hub Contract 310448 to be effective 4/1/2011.

Filed Date: 03/31/2011.

Accession Number: 20110331-5128.

Comment Date: 5 p.m. Eastern Time on Tuesday, April 12, 2011.

Docket Numbers: RP11-1939-000.

Applicants: Trailblazer Pipeline Company LLC.

Description: Trailblazer Pipeline Company LLC submits tariff filing per 154.403(d)(2): Tracking Filing to be effective 5/1/2011.

Filed Date: 03/31/2011.

Accession Number: 20110331-5129.

Comment Date: 5 p.m. Eastern Time on Tuesday, April 12, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: March 31, 2011.
Nathaniel J. Davis, Sr.,
Deputy Secretary.

[FR Doc. 2011-9306 Filed 4-15-11; 8:45 am]

BILLING CODE 6717-01-P